DEPARTMENT OF THE TREASURY

Internal Revenue Service

26 CFR Part 1

Tax Treatment of Cafeteria Plans

CFR Correction

In Title 26 of the Code of Federal Regulations, Part 1 (§§ 1.61 to 1.139), revised as of April 1, 2015, on page 545, § 1.125-4T is removed.

[FR Doc. 2016-07018 Filed 3-25-16; 8:45 am]

BILLING CODE 1505-01-D